DEPARTMENT OF TRANSPORTATION

Federal Highway Administration

Notice of Final Federal Agency Actions on Proposed Highway in Lawrence, KS

AGENCY: Federal Highway Administration (FHWA).

ACTION: Notice of Limitation on Claims for Judicial Review of Actions by FHWA and other Federal Agencies.

SUMMARY: This notice announces actions taken by the FHWA and other Federal agencies that are final within the meaning of 23 U.S.C. 139(l)(1). The actions relate to a proposed highway project, the South Lawrence Trafficway, K-10 Highway in Lawrence, Douglas County, Kansas. Those actions grant approvals for the project.

DATES: By this notice, the FHWA is advising the public of final agency actions subject to 23 U.S.C. 139(l)(1). A claim seeking judicial review of the Federal agency actions of the highway project will be barred unless the claim is filed within 180 days of this notice. If the Federal law that authorizes judicial review of a claim provides a time period of less than 180 days for filing such claim, then that shorter time period still applies.

FOR FURTHER INFORMATION CONTACT: For FHWA: Mr. J. Michael Bowen, P.E., Division Administrator, Federal Highway Administration, 6111 SW 29th Street, Topeka, Kansas 66509, Telephone (785) 228-2544. The Kansas Division Office's normal business hours are 7:30 a.m. to 4 p.m. (central time). For the Kansas Department of Transportation (KDOT): Mr. Joe Erskine, Deputy Secretary for Finance and Administration, 700 SW Harrison Street, Topeka, Kansas 66603-3745, Telephone (785) 296-3461. For USACE: Mark Frazier, Chief, Regulatory Branch, U.S. Army Corps of Engineers, Kansas City District, 601 E 12th Street, Attn: OD-R, Room 706, Kansas City, MO 64106; telephone (816) 389-3990.

SUPPLEMENTARY INFORMATION: Notice is hereby given that the FHWA and other Federal agencies have taken final agency actions by issuing approvals for the following highway project in Kansas: the South Lawrence Trafficway, K-10 Highway beginning at the intersection of K-10 and US-59 highway in Lawrence, Kansas and proceeding eastward along the 32nd Street corridor to a point east of 1750 Road on existing K-10 Highway. The project will be a 5.61 mile long, access controlled four-lane highway on new alignment. The actions by the Federal agencies, and the laws under which such actions were taken, are described in the 2002 Final Environmental Impact Statement (FEIS) and the 2007 Final Section 4(f) Evaluation for the project, and approved in the FHWA Record of Decision (ROD) issued on May 9, 2008, and in other documents in the FHWA project files. The FEIS, Section 4(f) Evaluation, ROD and other project records are available by contacting the FHWA or KDOT at the addresses provided above. The FHWA FEIS, Section 4(f) Evaluation, and ROD can be viewed and downloaded from the project Web site at http://www.southlawrencetrafficway.org. The USACE decision and permit (USACE Permit 200101697) are available by contacting USACE at the address provided above. This notice applies to all Federal agency decisions as of the issuance date of this notice and all laws under which such actions were taken, including but not limited to:

1. General: National Environmental Policy Act (NEPA) [42 U.S.C. 4321-4351]; Federal-Aid Highway Act [23 U.S.C. 109].

2. Land: Section 4(f) of the Department of Transportation Act of 1966 [49 U.S.C. 303]; Landscaping and Scenic Enhancement (Wildflowers) [23 U.S.C. 319].

3. Wildlife: Endangered Species Act [16 U.S.C. 1531-1544 and Section 1536]; Fish and Wildlife Coordination Act [16 U.S.C. 661-667(d)]; Migratory Bird Treaty Act [16 U.S.C. 703-712].

4. Historic and Cultural Resources: Section 106 of the National Historic Preservation Act of 1966, as amended [16 U.S.C. 470(f) et seq.]; Archaeological and Historic Preservation Act [16 U.S.C. 469-469(c)].

5. Social and Economic: Civil Rights Act of 1964 [42 U.S.C. 2000(d)-2000(d)(1)]; Farmland Protection Policy Act (FPPA) [7 U.S.C. 4201-4209].

6. Safe Drinking Water Act (SDWA) [42 U.S.C. 300(f)-300(j)(6)]; Flood Disaster Protection Act [42 U.S.C. 4001-4128]; Clean Water Act (Section 404, Section 401, Section 319) [33 U.S.C. 1251-1377]; Wetlands Mitigation [23 U.S.C. 103(b)(6)(M) and 133(b)(11)].

7. Executive Orders: E.O. 11990, Protection of Wetlands; E.O. 11988, Floodplain Management; E.O. 12898, Federal Actions to Address Environmental Justice in Minority Populations and Low Income Populations; E.O. 11593, Protection and Enhancement of Cultural Resources; E.O. 13007, Indian Sacred Sites; E.O. 13287, Preserve America; E.O. 13175, Consultation and Coordination with Indian Tribal Governments; E.O. 11514, Protection and Enhancement of Environmental Quality; E.O. 13112, Invasive Species.

(Catalog of Federal Domestic Assistance Program Number 20.205, Highway Planning and Construction. The regulations implementing Executive Order 12372 regarding intergovernmental consultation on Federal programs and activities apply to this program.)

Authority: 23 U.S.C. 139(l)(1).

Issued on: May 9, 2008.
Norbert Muñoz,
Assistant Division Administrator, Federal Highway Administration, Topeka, Kansas.

[FR Doc. E8-10889 Filed 5-14-08; 8:45 am]

BILLING CODE 4910-22-P